DEPARTMENT OF THE INTERIOR

Bureau of Land Management

[LNVS01000.L54400000.EQ0000.LVCLF1604550; N-94439; 11-08807; MO# (To Be Assigned at NSO); TAS: 14X5232]

Notice of Realty Action: Proposed Non Competitive Conveyance (N-94439) of Public Lands for Airport Purposes in Clark County, Nevada

AGENCY: Bureau of Land Management, Interior.

ACTION: Notice of Realty Action.

SUMMARY: The Bureau of Land Management (BLM), Las Vegas Field Office has examined and found suitable a 20 acre parcel of public land for conveyance for airport purposes under the authority of Section 516 of the Airport and Airway Improvement Act of 1982, as requested by the Clark County Department of Aviation.

The parcel is located in the City of Henderson, Clark County, Nevada.

DATES: Interested parties may submit written comments regarding the proposed conveyance until February 10, 2017.

ADDRESSES: Send written comments concerning the proposed conveyance to the BLM Las Vegas Field Office, Attn: Field Manager, 4701 North Torrey Pines Drive, Las Vegas, NV 89130.

FOR FURTHER INFORMATION CONTACT: Philip Rhinehart, Realty Specialist, by email at prhineha@blm.gov or by telephone at 702-515-5182. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM proposes to convey the following described lands:

Mount Diablo Meridian, Nevada

T. 23 S., R. 61 E.,

Sec. 10, SW¼NE¼NE¼ and NW¼SE¼NE¼.

The area described contains 20 acres, more or less and is further described as being bounded on the west side of the Henderson Executive Airport, approximately 6,125 feet south of the intersection of St. Rose Parkway and Executive Airport Drive. The parcel is further described as being located approximately 1,407 feet east of Executive Airport Drive. A map delineating the proposed conveyance parcel is available for public review at the BLM, Las Vegas Field Office at the address above.

This conveyance is in conformance with the BLM Las Vegas Resource Management Plan (RMP) and decision LD-1, approved by Record of Decision on October 5, 1998. It further complies with the Airport and Airway Improvement Act of 1928, as amended (49 U.S.C., Appendix 211-213), and Section 23 of the Airway Development Act of 1970.

The Clark County Department of Aviation (CCDOA), in accordance with Section 23 of the Airway Development Act of 1970, through the U.S. Department of Transportation, Federal Aviation Administration has requested the conveyance of the property to the CCDOA for the expansion of the general aviation airport known as the Henderson Executive Airport, located in Henderson, Nevada. The property is surrounded on three sides by land owned by the CCDOA, for the operation of the Henderson Executive Airport, and on the fourth side by private property.

These public lands are not currently encumbered by any rights-of way grants, or leases. They have been examined and found suitable for conveyance purposes under the provisions of the Airport and Airway Improvement Act of 1928, as amended (49 U.S.C., Appendix 211-213.

The lands identified for conveyance are segregated from mineral entry under the Southern Nevada Public Lands Management Act of 1998 (Pub. L. 105-263). Conveyance of these lands is consistent with the BLM, Las Vegas Resource Management Plan, dated October 5, 1998, and would be in the public interest.

Conveyance of the land is consistent with applicable Federal and county land use plans and will help meet the needs of the community. The land is not required for any other Federal purposes.

Additional detailed information about this request for conveyance, plan of development, and site plan is contained in case file N-94439, which is located in the BLM Las Vegas Field Office at the above address.

The proposed conveyance is based on the consideration that the parcel is surrounded on three sides by the Henderson Executive Airport (HND), and on the fourth by private property. The parcel is an isolated uneconomic parcel of public land within a designated disposal boundary. Pursuant to regulations found at 49 U.S.C. Section 47125 the Clark County Department of Aviation is entitled to a no cost conveyance of the property.

Conveyance of the public land shall be subject to limitations prescribed by law and regulation. Prior to patent issuance, a holder of any right-of-way within the conveyance area may be given the opportunity to amend the right-of-way for conversion to a new term, including perpetuity, if applicable.

The patent, when issued, will be subject to the provisions of the Airport and Airways Improvement Act of 1982 and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

Conveyance of the public land will be subject to:

1. Valid existing rights.

None known

Conveyance of the public land will contain the following Covenants:

1. That the grantee will use the property interest for airport purposes, and will develop that interest for airport purposes within one to five years after the date of this conveyance. Except that if the property interest is necessary to meet future development of an airport in accordance with National Plan of Integrated Airports System (NPIAS), the grantee will develop that interest for airport purposes on or before the period provided in the plan or within a period satisfactory to the Administrator of the Federal Aviation Administration, and any interim use of that interest for other than airport purposes will be subject to such terms and conditions as the Administrator may prescribe.

2. That the airport runway system and its appurtenant safety areas, and all buildings and facilities, will be operated for public airport purposes on fair and reasonable terms without unjust economic discrimination; or discrimination on the basis of race, color, or national origin, as to airport employment practices, and as to accommodations, services, facilities, or other public uses of the airport.

3. That the grantee will not grant or permit any exclusive right forbidden by Section 308(a) of the Federal Aviation Act of 1958 (49 U.S.C. 1349 9(a), as amended), at the airport or at any other airport now owned or controlled by it.

4. That the grantee agrees that no person shall be excluded from any participation, be denied any benefits, or be otherwise subjected to any discrimination on the grounds of race, color, national origin, or disability.

5. That the grantee agrees to comply with all requirements imposed by or pursuant to Part 21 of the Regulations of the Office of the Secretary of Transportation (49 CFR 21)—nondiscrimination in federally assisted programs of the Department of Transportation—effectuation of Title VI of the Civil Rights Act of 1964.

6. That in furtherance of the policy of the Federal Aviation Administration under covenant, the grantee:

(a) Agrees that, unless authorized by the Administrator, it will not, either directly or indirectly, grant or permit any person, firm or corporation the exclusive right at the airport, or at any other airport now owned or controlled by it, to conduct any aeronautical activities, including, but not limited to, charter flights, pilot training, aircraft rental and sightseeing, aerial photography, crop dusting, aerial advertising and surveying, air carrier operations, aircraft sales and services, sale of aviation petroleum products whether or not conducted in conjunction with other activities which because of their direct relationship to the operation of aircraft can be regarded as an aeronautical activity.

(b) Agrees that it will terminate any existing exclusive right to engage in the sale of gasoline or oil, or both, granted before July 17, 1962, at such an airport, at the earliest renewal, cancellation, or expiration date applicable to the agreement that established the exclusive right.

(c) Agrees that it will terminate forthwith any other exclusive right to conduct any aeronautical activity now existing at such an airport.

7. That any later transfer of the property interest conveyed will be subject to the covenants and conditions in the instrument of conveyance.

8. That, if the covenant to develop the property interest (or any part thereof) for airport purposes within one year after the date of this conveyance is breached, or if the property interest (or any part thereof) is not used in a manner consistent with terms of the conveyance, then the Administrator may give notice to the patentee requiring Clark County, Nevada to take specified action towards development within a fixed period. These notices may be issued repeatedly, and outstanding notices may be amended or supplemented. Upon expiration of a period so fixed without completion by the grantee of the required action, the Administrator may, on behalf of the United States, enter, and take title to, the property interest conveyed or the particular part of the interest to which the breach relates.

9. That, if any covenant or condition in the instrument of conveyance, other than the covenant contained in paragraph 7 of this section, is breached, the Administrator may, on behalf of the United States, immediately enter, and take title to, the property interest conveyed or, in his discretion, that part of that interest to which the breach relates.

10. That a determination by the Administrator that one of the foregoing covenants has been breached is conclusive of the facts, and that, if the right entry and possession of title stipulated in the forgoing covenants is exercised, the grantee will, upon demand of the Administrator, take any action (including prosecution of suit or executing of instruments) that may be necessary to evidence transfer to the United States of title to the property interest conveyed, or in the Administrator's discretion, to that part interest to which the breach relates.

Upon publication of this notice in the Federal Register, in addition to the existing segregation from mineral entry under SNPLMA, noted above, the land described will be segregated from all other forms of appropriation under the public land laws, but not conveyance under the Airport and Airway Improvement Act of 1982.

Interested parties may submit written comments regarding the specific use proposed in the application and plan of development, whether BLM followed proper administrative procedures in reaching the decision to convey under the Airport and Airway Improvement Act of 1982, or any other factor not directly related to the suitability of the land for airport use.

Before including your address, phone number, email address, or other personal identifying information in your comment, you should be aware that your entire comment—including your personal identifying information—may be made publicly available at any time. While you can ask us in your comment to withhold your personal identifying information from public review, we cannot guarantee that we will be able to do so. Only written comments submitted to the Field Manager, BLM Las Vegas Field Office, will be considered properly filed.

Any adverse comments will be reviewed by the BLM Nevada State Director, who may sustain, vacate, or modify the realty action. In the absence of any adverse comments, this realty action will become the final determination of the Department of the Interior. In the absence of any adverse comments, the decision will become effective on February 27, 2017. The lands will not be available for conveyance until after the decision becomes effective.

(Authority: 43 CFR 2911.0-1)

Vanessa Hice,
Assistant Field Manager, Division of Lands.

[FR Doc. 2016-31219 Filed 12-23-16; 8:45 am]

BILLING CODE 4310-HC-P